DEPARTMENT OF DEFENSE

Office of the Secretary

Defense Policy Board; Notice of Federal Advisory Committee Meeting

AGENCY: Under Secretary of Defense for Policy, Defense Policy Board, Department of Defense.

ACTION: Notice of federal advisory committee meeting.

SUMMARY: The Department of Defense (DoD) is publishing this notice to announce that the following Federal Advisory Committee meeting of the Defense Policy Board (DPB) will take place.

DATES:

Day 1—Closed to the public Wednesday, March 13, 2019 from 8:00 a.m. to 5:00 p.m.

Day 2—Closed to the public Thursday, March 14, 2019 from 8:00 a.m. to 12:00 p.m.

ADDRESSES: The closed meeting will be held at The Pentagon, 2000 Defense Pentagon, Washington, DC 20301-2000.

FOR FURTHER INFORMATION CONTACT: Marcus Bonds, (703) 571-0854 (Voice), 703-697-8606 (Facsimile), marcus.bonds.civ@mail.mil (Email). Mailing address is 2000 Defense Pentagon, Washington, DC 20301-2000.

SUPPLEMENTARY INFORMATION: This meeting is being held under the provisions of the Federal Advisory Committee Act (FACA) (5 U.S.C., App.), the Government in the Sunshine Act (“the Sunshine Act”) (5 U.S.C. 552b), and the General Services Administration's Federal Advisory Committee Management; Final Rule (“the FACA Final Rule”). (41 CFR 101-6 and 102-3).

Purpose of the Meeting: To obtain, review, and evaluate classified information related to the DPB's mission to advise on (a) issues central to strategic DoD planning; (b) policy implications of U.S. force structure and force modernization and on DoD's ability to execute U.S. defense strategy; (c) U.S. regional defense policies; and (d) other research and analysis of topics raised by the Secretary of Defense, the Deputy Secretary of Defense, or the Under Secretary of Defense for Policy.

Agenda: On March 13th and 14th, the DPB will have Secret level or higher discussions on national security issues regarding 5G Technology. On March 13th, Topics and speakers include (1) 5G Telecommunications from a National Security Perspective, Kristen Baldwin (Department of Defense) and Jeffrey Baum (Department of Defense); (2) Intelligence Community Threat, Raymond Gabany (National Security Agency); (3) Spectrum, Standards, Supply Chain, and Technology Leadership, Honorable Dana Deasy (Department of Defense) and Earl Comstock (Department of Commerce); (4) Warfighter Perspectives, General Paul Nakasone (Department of Defense) and Lt General Bradford Shwedo (Department of Defense) (5); 5G Industry Panel, Nate Tibbets (Qualcomm), Andre Fuetsch (AT&T) and Chandra McMahon (Verizon); Government to Industry Partnering, Mr. David Redl (Department of Commerce) and Ajit Pai (Federal Communications Commission). On March 14th the DPB will deliberate and report out to the John Rood, Under Secretary of Defense for Policy.

Meeting Accessibility: Pursuant to the Sunshine Act, the FACA, and the FACA Final Rule (41 CFR 101-6), the DoD has determined that this meeting shall be closed to the public. The Under Secretary of Defense (Policy), in consultation with the DoD FACA Attorney, has determined in writing that this meeting be closed to the public because the discussions fall under the purview of Section 552b(c)(1) of the Sunshine Act and are so inextricably intertwined with unclassified material that they cannot reasonably be segregated into separate discussions without disclosing secret or higher classified material.

Committee's Designated Federal Officer or Point of Contact: Marcus Bonds, osd.pentagon.ousd-policy.mbx.defense-board@mail.mil.

Written Statements: Pursuant to 41 CFR 102-3.105(j) and 102-3.140(c) and section 10(a)(3) of the FACA, the public or interested organizations may submit written statements to the membership of the DPB at any time regarding its mission or in response to the stated agenda of a planned meeting. Written statements should be submitted to the DPB's Designated Federal Officer (DFO), which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: February 21, 2019.
Shelly E. Finke,
Alternate OSD Federal Register Liaison Officer, Department of Defense.

[FR Doc. 2019-03287 Filed 2-25-19; 8:45 am]

BILLING CODE 5001-06-P